DEPARTMENT OF COMMERCE

Foreign-Trade Zones Board

[Order No. 1543]

Expansion of Foreign-Trade Zone 202 Los Angeles, California, Area

Pursuant to its authority under the Foreign-Trade Zones Act of June 18, 1934, as amended (19 U.S.C. 81a-81u), the Foreign-Trade Zones Board (the Board) adopts the following Order:

Whereas, the Board of Harbor Commissioners of the City of Los Angeles, grantee of Foreign-Trade Zone 202, submitted an application to the Board for authority to expand its zone to include a site within the Tejon Industrial Complex (Site 23—177 acres) in Lebec, California, adjacent to the Los Angeles-Long Beach Customs and Border Protection port of entry (FTZ Docket 44-2006, filed 11/8/06);

Whereas, notice inviting public comment was given in the Federal Register (71 FR 66499, 11/15/06) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 202 is approved, subject to the FTZ Act and the Board's regulations, including section 400.28, subject to the Board's standard 2,000-acre activation limit for the overall general-purpose zone project, and further subject to a sunset provision that would terminate authority on March 31, 2013, for Site 23 where no activity has occurred under FTZ procedures before that date.

Signed at Washington, DC, this 27th day of February 2008.
David M. Spooner,
Assistant Secretary of Commerce for Import Administration, Alternate Chairman, Foreign-Trade Zones Board.

ATTEST:

Andrew McGilvray,

Executive Secretary.

[FR Doc. E8-5050 Filed 3-12-08; 8:45 am]

BILLING CODE 3510-DS-P